DEPARTMENT OF TRANSPORTATION

Federal Aviation Administration

Notice of Availability for Final Environmental Impact Statement (Final EIS), Department of Transportation Act of 1966 Section 4(f) Evaluation, and Alaska National Interest Lands Conservation Act Subsistence Evaluation for the Proposed Airport, Angoon, Alaska

AGENCY: Federal Aviation Administration (FAA), Department of Transportation.

ACTION: Notice of Availability (NOA).

SUMMARY: In accordance with the National Environmental Policy Act of 1969 and Council on Environmental Quality (CEQ) regulations, the FAA issues this notice to advise the public that a Final EIS for the proposed airport in Angoon, Alaska, has been prepared. Included in the Final EIS are a subsistence evaluation consistent with Section 810 of the Alaska National Interest Lands Conservation Act (ANILCA) and a final evaluation pursuant to Section 4(f) of the Department of Transportation Act of 1966. The FAA will not make a decision on the proposed action for a minimum of 30 days following the publication of this NOA in the Federal Register. The FAA will record their decision or decisions in a Record of Decision.

ADDRESSES: Copies of the Final EIS and the evaluations are available at the following locations. Paper copies may be viewed during regular business hours.

1. Online at www.angoonairporteis.com.

2. Juneau Public Library:

• Downtown Branch, 292 Marine Way, Juneau, AK 99801

• Douglas Branch, 1016 3rd Street, Douglas, AK 99824

• Mendenhall Mall Branch, 9109 Mendenhall Mall Road, Juneau, AK 99801

3. U.S. Forest Service, Admiralty Island National Monument Office, 8510 Mendenhall Loop Road, Juneau, AK 99801.

4. Angoon Community Association Building, 315 Heendae Road, Angoon, AK 99820.

5. Angoon City Government Office, 700 Aan Deina Aat Street, Angoon, AK 99820.

6. Angoon Senior Center, 812 Xootz Road, Angoon, AK 99820.

7. The FAA Airports Division in Anchorage, AK. Please contact Leslie Grey at (907) 271-5453 to schedule.

FOR FURTHER INFORMATION CONTACT: Leslie Grey, AAL-611, Federal Aviation Administration, Alaskan Region, Airports Division, 222 W. 7th Avenue, Box #14, Anchorage, AK 99513. Ms. Grey may be contacted by telephone during business hours at (907) 271-5453, by fax at (907) 271-2851, or by email at Leslie.Grey@faa.gov.

SUPPLEMENTARY INFORMATION: The Alaska Department of Transportation and Public Facilities (DOT&PF) has requested funding and approval from the FAA for a new land-based airport and an access road to improve the availability and reliability of transportation services to and from Angoon. The DOT&PF's proposed action would be located in the Admiralty Island National Monument and Kootznoowoo Wilderness Area (Monument-Wilderness Area). The FAA has proposed alternatives to the proposed action, including the no action alternative. The purpose and need for the airport are discussed in detail in the Final EIS.

The project would consist of a paved, 3,300-foot-long and 75-foot-wide runway, with future expansion to 4,000 feet long.

Construction of the proposed airport would be completed in two to three construction seasons. Many of the impact categories considered in the Final EIS are required by FAA Orders 1050.1E and 5050.4B. In addition, subsistence activities, wilderness character, and impacts to the Admiralty Island National Monument are evaluated. Because the DOT&PF's proposed action is located in the Monument-Wilderness Area, the DOT&PF has submitted an application to the FAA, the U.S. Forest Service, and the U.S. Army Corps of Engineers under ANILCA Title XI to use the lands. The federal agencies have drafted findings and a notification of tentative disapproval of the application. At this time, no notification will be sent to the President pending discussions with the sponsor and the cooperating agencies on next steps.

Additional details regarding the project can be found on the project Web site at www.angoonairporteis.com.

Issued in Anchorage, Alaska, on August 23, 2016.
Byron K. Huffman,
Manager, Airports Division, AAL-600.

[FR Doc. 2016-21083 Filed 9-1-16; 8:45 am]

BILLING CODE 4910-13-P